DEPARTMENT OF DEFENSE

GENERAL SERVICES ADMINISTRATION

NATIONAL AERONAUTICS AND SPACE ADMINISTRATION

48 CFR Parts 2, 4, 5, 6, 7, 8, 9, 14, 16, 17, 18, 19, 22, 23, 25, 28, 31, 36, 41, 49, 52, and 53

[FAC 2005-100; Item III; Docket No. 2018-0002; Sequence No. 1]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes and to update web links.

DATES: Effective: August 22, 2018.

FOR FURTHER INFORMATION CONTACT: Ms. Lois Mandell, Regulatory Secretariat Division (MVCB), 1800 F Street NW, 2nd Floor, Washington, DC 20405, 202-501-4755. Please cite FAC 2005-100, Technical Amendments.

SUPPLEMENTARY INFORMATION: In order to update certain elements in 48 CFR parts 2, 4, 5, 6, 7, 8, 9, 14, 16, 17, 18, 19, 22, 23, 25, 28, 31, 36, 41, 49, 52, and 53 this document makes editorial changes to the FAR.

List of Subjects in 48 CFR Parts 2, 4, 5, 6, 7, 8, 9, 14, 16, 17, 18, 19, 22, 23, 25, 28, 31, 36, 41, 49, 52, and 53

Government procurement.

Dated: July 31, 2018.
William F. Clark,
Director, Office of Government-wide Acquisition Policy, Office of Acquisition Policy, Office of Government-wide Policy.

Therefore, DoD, GSA, and NASA amend 48 CFR parts 2, 4, 5, 6, 7, 8, 9, 14, 16, 17, 18, 19, 22, 23, 25, 28, 31, 36, 41, 49, 52, and 53 as set forth below:

1. The authority citation for parts 2, 4, 5, 6, 7, 8, 9, 14, 16, 17, 18, 19, 22, 23, 25, 28, 31, 36, 41, 49, 52, and 53 continues to read as follows:

Authority: 40 U.S.C. 121(c); 10 U.S.C. chapter 137; and 51 U.S.C. 20113.

PART 2—DEFINITIONS OF WORDS AND TERMS

2. Amend section 2.101, in paragraph (b)(2) by—

a. Removing from the definition “Disaster Response Registry” “https://www.acquisition.gov and alternately through the FEMA website at http://www.fema.gov/business/index.shtm. (See 26.205.)” and adding “the Internet at https://www.sam.gov, Search Records, Advanced Search, Disaster Response Registry Search. (See 26.205.)” in its place; and

b. Removing from the definition “Governmentwide point of entry (GPE)” “http://www.fedbizopps.gov” and adding “https://www.fbo.gov” in its place.

PART 4—ADMINISTRATIVE MATTERS

3. Amend section 4.1603 by revising paragraphs (b) introductory text, (b)(1), and (b)(2) introductory text to read as follows:

4.1603 Procedures.

* * * * *

(b) Elements of a supplementary PIID. Use the supplementary PIID to identify amendments to solicitations and modifications to contracts, orders, and agreements. The supplementary PIID is reported as a separate data element used in conjunction with, but not appended to, the PIID.

(1) Amendments to solicitations. Number amendments to solicitations sequentially using a four position numeric serial number in addition to the 13-17 character PIID beginning with 0001.

(2) Modifications to contracts, orders, and agreements. Number modifications to contracts, orders, and agreements using a six position alpha or numeric, or a combination thereof, in addition to the 13-17 character PIID. For example, a modification could be numbered P00001. This would be in addition to the 13-17 character PIID illustrated in paragraph (a)(5) of this section.

* * * * *

4.1702 [Amended]

4. Amend section 4.1702 by removing from paragraph (b) “http://www.whitehouse.gov/omb/procurement-service-contract-inventories” and adding “https://www.whitehouse.gov/sites/whitehouse.gov/files/omb/procurement/memo/service-contract-inventory-guidance.pdf” in its place.

PART 5—PUBLICIZING CONTRACT ACTIONS

5.102 [Amended]

5. Amend section 5.102 by removing from paragraph (a)(1) “http://www.fedbizopps.gov” and adding “https://www.fbo.gov” in its place.

5.201 [Amended]

6. Amend section 5.201 by removing from paragraph (d) “http://www.fedbizopps.gov” and adding “https://www.fbo.gov” in its place.

5.207 [Amended]

7. Amend section 5.207 by removing from paragraphs (b), (c)(19), and (e) “http://www.fedbizopps.gov” and adding “https://www.fbo.gov” in their places, respectively.

5.704 [Amended]

8. Amend section 5.704 by removing from paragraph (b) introductory text “https://www.fedbizopps.gov” and adding “https://www.fbo.gov” in its place.

5.705 [Amended]

9. Amend section 5.705 by removing from paragraphs (a)(2) introductory text and (c) “https://www.fedbizopps.gov” and adding “https://www.fbo.gov” in their places, respectively.

PART 6—COMPETITION REQUIREMENTS

6.305 [Amended]

10. Amend section 6.305 by removing from paragraph (d)(1) “www.fedbizopps.gov” and adding “https://www.fbo.gov” in its place.

PART 7—ACQUISITION PLANNING

7.103 [Amended]

11. Amend section 7.103 by removing from paragraph (p)(3) “http://www.wbdg.org/pdfs/hpsb_guidance.pdf” and adding “https://www.epa.gov/greeningepa/guiding-principles-federal-leadership-high-performance-and-sustainable-buildings” in its place.

7.105 [Amended]

12. Amend section 7.105 by removing from paragraph (b)(16) “http://www.fedbizopps.gov” and adding “https://www.fbo.gov” in its place.

7.107-4 [Amended]

13. Amend section 7.107-4(a)(1) introductory text by removing “contract task” and adding “contract or task” in its place.

PART 8—REQUIRED SOURCES OF SUPPLIES AND SERVICES

8.405-6 [Amended]

14. Amend section 8.405-6 by removing from paragraph (a)(2)(i)(B)(1) “http://www.fedbizopps.gov” and adding “https://www.fbo.gov” in its place.

8.501 [Amended]

15. Amend section 8.501 in the definition “Federal helium supplier” by removing “http://blm.gov/8pjd” and adding “https://www.blm.gov/programs/energy-and-minerals/helium/partners” in its place.

8.602 [Amended]

16. Amend section 8.602 by removing from paragraphs (a)(4)(ii)(A) and (B) “FedBizOpps” and adding “FedBizOpps, also known as FBO” in their places, respectively.

PART 9—CONTRACTOR QUALIFICATIONS

9.406-3 [Amended]

17. Amend section 9.406-3 by removing from paragraph (f)(1) “www.cpars.csd.disa.mil” and adding “https://www.cpars.gov” in its place.

9.407-3 [Amended]

18. Amend section 9.407-3 by removing from paragraph (e)(1) “www.cpars.csd.disa.mil” and adding “https://www.cpars.gov” in its place.

PART 14—SEALED BIDDING

14.201-2 [Amended]

19. Amend section 14.201-2 by removing from paragraph (b) “(53.302-336)”.

PART 16—TYPES OF CONTRACTS

16.505 [Amended]

20. Amend section 16.505 by removing from paragraph (b)(2)(ii)(D)(2)(i) “http://www.fedbizopps.gov” and adding “https://www.fbo.gov” in its place.

PART 17—SPECIAL CONTRACTING METHODS

17.502-1 [Amended]

21. Amend section 17.502-1 by removing from paragraph (b)(1)(i) “http://www.whitehouse.gov/omb/assets/procurement/iac_revised.pdf” and adding “https://www.whitehouse.gov/sites/whitehouse.gov/files/omb/assets/OMB/procurement/interagency_acq/iac_revised.pdf” in its place; and removing from paragraph (c) introductory text “http://www.whitehouse.gov/sites/default/files/omb/procurement/memo/development-review-and-approval-of-business-cases-for-certain-interagency-and-agency-specific-acquisitions-memo.pdf” and adding “https://www.whitehouse.gov/sites/whitehouse.gov/files/omb/procurement/memo/development-review-and-approval-of-business-cases-for-certain-interagency-and-agency-specific-acquisitions-memo.pdf” in its place.

PART 18—EMERGENCY ACQUISITIONS

18.205 [Amended]

22. Amend section 18.205 by removing from paragraph (b) “http://www.whitehouse.gov/sites/default/files/omb/assets/procurement_guides/emergency_acquisitions_guide.pdf” and adding “https://www.whitehouse.gov/sites/whitehouse.gov/files/omb/assets/procurement_guides/emergency_acquisitions_guide.pdf” in its place.

PART 19—SMALL BUSINESS PROGRAMS

19.704 [Amended]

23. Amend section 19.704 by removing from paragraph (a)(10)(iii) “contracts intended;” and adding “contracts with individual subcontracting plans where the contract is intended” in its place.

19.1503 [Amended]

24. Amend section 19.1503 by removing from paragraph (c)(2)(viii) “http://www.sba.gov/tools/forms/index.html” and adding “https://www.sba.gov/managing-business/forms/small-business-forms/financial-assistance-forms/personal-financial-statement” in its place.

PART 22—APPLICATION OF LABOR LAWS TO GOVERNMENT ACQUISITIONS

22.001 [Amended]

25. Amend section 22.001 by removing from the definition “Administrator or Administrator, Wage and Hour Division” the words “Employment Standards Administration,”.

22.404-3 [Amended]

26. Amend section 22.404-3 by removing from paragraph (a) “(see 53.301-308)”.

22.1001 [Amended]

27. Amend section 22.1001 by removing from the definition “Wage and Hour Division” “Employment Standards Administration of the”.

22.1021 [Amended]

28. Amend section 22.1021 by removing from paragraph (a) “Employment Standards Administration,”.

22.1022 [Amended]

29. Amend section 22.1022 by removing from the second sentence “Employment Standards Administration,”.

22.1304 [Amended]

30. Amend section 22.1304 by removing from paragraph (b) “VETS-4212-customersupport@dol.gov” and adding “VETS4212-customersupport@dol.gov” in its place.

PART 23—ENVIRONMENT, ENERGY AND WATER EFFICIENCY, RENEWABLE ENERGY TECHNOLOGIES, OCCUPATIONAL SAFETY, AND DRUG-FREE WORKPLACE

23.202 [Amended]

31. Amend section 23.202 by removing from paragraph (b)(3) “http://www.epa.gov/nps/lid/section438” and adding “https://www.epa.gov/nps/stormwater-management-federal-facilities-under-section-438-energy-independence-and-security-act” in its place.

23.203 [Amended]

32. Amend section 23.203 by removing from paragraph (b)(2) “http://www1.eere.energy.gov/femp/procurement/eep_requirements.html” and adding “http://energy.gov/eere/femp/energy-and-water-efficient-products” in its place.

33. Amend section 23.205 by removing from paragraph (c)(1) “at http://www1.eere.energy.gov/femp/financing/espcs_regulations.html;” and adding paragraph (d) to read as follows:

23.205 Energy-savings performance contracts.

* * * * *

(d) For more information see https://energy.gov/eere/femp/energy-savings-performance-contracts-federal-agencies.

23.401 [Amended]

34. Amend section 23.401 by removing from paragraph (a)(2) “http://www.epa.gov/epawaste/conserve/tools/cpg/index.htm” and adding “https://www.epa.gov/smm/comprehensive-procurement-guideline-cpg-program” in its place.

23.405 [Amended]

35. Amend section 23.405 by removing from paragraph (a)(1) “http://www.epa.gov/cpg/products.htm” and adding “https://www.epa.gov/smm/comprehensive-procurement-guideline-cpg-program#products” in its place.

23.802 [Amended]

36. Amend section 23.802 by removing from paragraph (c) “and the President's Climate Action Plan of June 2013”.

PART 25—FOREIGN ACQUISITION

25.003 [Amended]

37. Amend section 25.003 in the definition “Caribbean Basin country end product” by removing from the paragraph (1)(ii)(B) “http://www.usitc.gov/tata.hts/” and adding “https://usitc.gov/tata/hts/index.htm” in its place.

25.703-2 [Amended]

38. Amend section 25.703-2 by removing from paragraph (a)(2) “http://www.treasury.gov/ofac/downloads/t11sdn.pdf” and adding “https://www.treasury.gov/resource-center/sanctions/SDN-List/Pages/default.aspx” in its place.

PART 28—BONDS AND INSURANCE

28.106-1 [Amended]

39. Amend section 28.106-1 by removing from the introductory text, “shown in 53.301 and 53.302”.

28.106-3 [Amended]

40. Amend section 28.106-3 by removing from paragraph (a) “, and a copy of the form is furnished for this purpose in part 53 of the looseleaf edition of the FAR”.

28.203-3 [Amended]

41. Amend section 28.203-3 by removing from paragraph (a)(1) “http://www.justice.gov/enrd/ENRD_Assets/Title_Standards_2001.pdf” and adding “https://www.justice.gov/enrd/page/file/922431/download” in its place.

42. Amend section 28.204-3 by revising paragraph (h) to read as follows:

28.204-3 Irrevocable letter of credit.

* * * * *

(h) A copy of the Uniform Customs and Practice (UCP) for Documentary Credits, 2007 Edition, International Chamber of Commerce Publication No. 600, is available from: ICC Books USA, 1212 Avenue of the Americas, 21st Floor, New York, NY 10036; Phone: 212-703-5078; Fax: 212-391-6568; Email: iccbooks@uscib.org; Via the internet at: http://www.uscib.org/ucp-600-ud-4465/.

PART 31—CONTRACT COST PRINCIPLES AND PROCEDURES

31.205-6 [Amended]

43. Amend section 31.205-6 by removing from paragraphs (p)(2)(ii) and (p)(3)(ii) “https://www.whitehouse.gov/omb/procurement_index_exec_comp/” and adding “https://www.whitehouse.gov/wp-content/uploads/2017/11/ContractorCompensationCapContractsAwardedBeforeJune24.pdf” in their places, respectively; and removing from paragraph (p)(4)(ii) “http://www.whitehouse.gov/omb/procurement/cecp” and adding “https://www.whitehouse.gov/wp-content/uploads/2017/11/ContractorCompensationCapContractsAwardedafterJune24.pdf” in its place.

PART 36—CONSTRUCTION AND ARCHITECT-ENGINEER CONTRACTS

36.104 [Amended]

44. Amend section 36.104 by removing from paragraph (b)(1) “http://www.wbdg.org/pdfs/hpsb_guidance.pdf” and adding “https://www.epa.gov/greeningepa/guiding-principles-federal-leadership-high-performance-and-sustainable-buildings” in its place.

45. Revise the last sentence of section 36.700 to read as follows:

36.700 Scope of subpart.

* * * A listing of the Standard forms is located in subpart 53.3.

PART 41—ACQUISITION OF UTILITY SERVICES

41.301 [Amended]

46. Amend section 41.301 by removing from paragraph (a) “General Services Administration, Energy Center of Expertise, 301 7th Street SW, Room 4004, Washington, DC 20407” and adding “General Services Administration, Energy Division—PMA, 1800 F St NW, Washington, DC 20405; website: www.gsa.gov/energy; Email: energy@gsa.gov” in its place.

PART 49—TERMINATION OF CONTRACTS

47. Revise the last sentence of section 49.602 to read as follows:

49.602 Forms for settlement of terminated contracts.

* * * A listing of the Standard forms is located in subpart 53.3.

PART 52—SOLICITATION PROVISIONS AND CONTRACT CLAUSES

48. Amend section 52.208-8 by revising the date of the clause and removing from paragraph (a), in the definition “Federal helium supplier” “http://www.blm.gov/nm/st/en/fo/Amarillo_Field_Office.html” and adding “https://www.blm.gov/programs/energy-and-minerals/helium/partners” in its place.

The revision reads as follows:

52.208-8 Required Sources for Helium and Helium Usage Data.

* * * * *

Required Sources for Helium and Helium Usage Data (AUG 2018)

* * * * *

49. Amend section 52.212-1 by revising the date of the provision and paragraph (b)(4) to read as follows:

52.212-1 Instructions to Offerors—Commercial Items.

* * * * *

Instructions to Offerors—Commercial Items (AUG 2018)

* * * * *

(b) * * *

(4) A technical description of the items being offered in sufficient detail to evaluate compliance with the requirements in the solicitation. This may include product literature, or other documents, if necessary;

* * * * *

50. Amend section 52.212-3 by revising the date of the provision and removing from paragraph (o)(2)(iii) “http://www.treasury.gov/ofac/downloads/t11sdn.pdf ” and adding “https://www.treasury.gov/resource-center/sanctions/SDN-List/Pages/default.aspx” in its place.

The revision reads as follows:

52.212-3 Offeror Representations and Certifications—Commercial Items.

* * * * *

Offeror Representations and Certifications—Commercial Items (AUG 2018)

* * * * *

51. Amend section 52.212-5 by—

a. Revising the date of the clause;

b. Revising paragraphs (b)(17)(i) and (b)(17)(v);

c. Revising paragraphs (b)(28) through (30);

d. Revising paragraphs (b)(48) and (49);

e. Redesignating paragraphs (b)(58) and (59) as paragraphs (b)(59) and (60), and adding a new paragraph (b)(58);

f. Revising the newly designated paragraph (b)(60);

g. Revising paragraphs (c)(2), (c)(4), and (e)(1)(xii); and

h. In Alternate II-

i. Revising the date of Alternate II;

ii. Revising paragraph (e)(1)(ii)(J); and

iii. Revising paragraphs (e)(1)(ii)(P) thru (e)(1)(ii)(R).

The revisions and addition read as follows:

52.212-5 Contract Terms and Conditions Required To Implement Statutes or Executive Orders—Commercial Items.

* * * * *

Contract Terms and Conditions Required to Implement Statutes or Executive Orders-Commercial Items (AUG 2018)

* * * * *

(b) * * *

___(17)(i) 52.219-9, Small Business Subcontracting Plan (AUG 2018) (15 U.S.C. 637(d)(4)).

* * * * *

__(v) Alternate IV ([AUG 2018]) of 52.219-9.

* * * * *

___(28)(i) 52.222-26, Equal Opportunity (SEPT 2016) (E.O. 11246).

___(ii) Alternate I (Feb 1999) of 52.222-26.

___(29)(i) 52.222-35, Equal Opportunity for Veterans (OCT 2015)(38 U.S.C. 4212).

___(ii) Alternate I (July 2014) of 52.222-35.

___(30)(i) 52.222-36, Equal Opportunity for Workers with Disabilities (JUL 2014) (29 U.S.C. 793).

___(ii) Alternate I (July 2014) of 52.222-36.

* * * * *

___(48) 52.225-5, Trade Agreements (AUG 2018) 19 U.S.C. 2501, et seq., 19 U.S.C. 3301 note).

___(49) 52.225-13, Restrictions on Certain Foreign Purchases (JUNE 2008) (E.O.'s, proclamations, and statutes administered by the Office of Foreign Assets Control of the Department of the Treasury).

* * * * *

___(58) 52.239-1, Privacy or Security Safeguards (AUG 1996) (5 U.S.C. 552a).

* * * * *

___(60)(i) 52.247-64, Preference for Privately Owned U.S.-Flag Commercial Vessels (Feb 2006) (46 U.S.C. Appx. 1241(b) and 10 U.S.C. 2631).

___(ii) Alternate I (Apr 2003) of 52.247-64.

___(iii) Alternate II (Feb 2006) of 52.247-64.

(c) * * *

___(2) 52.222-41, Service Contract Labor Standards (AUG 2018)(41 U.S.C. chapter 67).

* * * * *

___(4) 52.222-43, Fair Labor Standards Act and Service Contract Labor Standards-Price Adjustment (Multiple Year and Option Contracts) (AUG 2018)(29 U.S.C. 206 and 41 U.S.C. chapter 67).

* * * * *

(e)(1) * * *

(xii) 52.222-41, Service Contract Labor Standards (AUG 2018)(41 U.S.C. chapter 67).

* * * * *

Alternate II (AUG 2018). * * *

* * * * *

(e)(1) * * *

(ii) * * *

(J) 52.222-41, Service Contract Labor Standards (AUG 2018)(41 U.S.C. chapter 67).

* * * * *

(P) 52.222-62, Paid Sick Leave Under Executive Order 13706 (JAN 2017)(E.O. 13706).

(Q)(1) 52.224-3, Privacy Training (JAN 2017) (5 U.S.C. 552a).

(2) Alternate I (JAN 2017) of 52.224-3.

(R) 52.225-26, Contractors Performing Private Security Functions Outside the United States (OCT 2016) (Section 862, as amended, of the National Defense Authorization Act for Fiscal Year 2008; 10 U.S.C. 2302 Note).

* * * * *

52. Amend section 52.213-4 by revising the date of the clause and paragraphs (a)(2)(viii) and (b)(1)(vii) to read as follows:

52.213-4 Terms and Conditions—Simplified Acquisitions (Other Than Commercial Items).

* * * * *

Terms and Conditions—Simplified Acquisitions (Other than Commercial Items) (AUG 2018)

(a) * * *

(2) * * *

(viii) 52.244-6, Subcontracts for Commercial Items (AUG 2018).

(b) * * *

(1) * * *

(vii) 52.222-41, Service Contract Labor Standards (AUG 2018) (41 U.S.C. chapter 67) (Applies to service contracts over $2,500 that are subject to the Service Contract Labor Standards statute and will be performed in the United States, District of Columbia, Puerto Rico, the Northern Mariana Islands, American Samoa, Guam, the U.S. Virgin Islands, Johnston Island, Wake Island, or the outer Continental Shelf).

* * * * *

53. Amend section 52.216-7 by revising the date of the clause and removing from paragraph (d)(2)(iv)(B) “http://www.whitehouse.gov/omb/procurement_index_exec_comp/” and adding “https://www.whitehouse.gov/wp-content/uploads/2017/11/ContractorCompensationCapContractsAwardedBeforeJune24.pdf and https://www.whitehouse.gov/wp-content/uploads/2017/11/ContractorCompensationCapContractsAwardedafterJune24.pdf ” in its place.

The revision reads as follows:

52.216-7 Allowable Cost and Payment.

* * * * *

Allowable Cost and Payment (AUG 2018)

54. Amend section 52.219-9 by—

a. Revising the date of the clause;

b. Removing the erroneous paragraph (d), prior to paragraph (c)(1);

c. Removing from paragraph (d)(10)(iii) “contracts intended” and adding “contracts with individual subcontracting plans where the contract is intended” in its place;

d. Removing from paragraphs (d)(10)(vi) and (d)(10)(vii) “DUNS number” and adding “unique entity identifier” in its place;

e. In Alternate IV—

i. Revising the date of Alternate IV;

ii. Removing from paragraph (d)(10)(iii) “contract intended” and adding “contract with an individual subcontracting plan where the contract is intended” in its place; and

iii. Removing from paragraphs (d)(10)(vi) and (d)(10)(vii) “DUNS number” and adding “unique entity identifier” in its place.

The revisions read as follows:

52.219-9 Small Business Subcontracting Plan.

* * * * *

Small Business Subcontracting Plan (AUG 2018)

* * * * *

Alternate IV (AUG 2018) * * *.

* * * * *

55. Amend section 52.222-6 by revising the date of the clause and removing from paragraph (c)(2) “Employment Standards Administration,”.

The revision reads as follows:

52.222-6 Construction Wage Rate Requirements.

* * * * *

Construction Wage Rate Requirements (AUG 2018)

* * * * *

56. Amend section 52.222-8 by revising the clause heading and date to read as follows:

52.222-8 Payrolls and Basic Records.

* * * * *

Payrolls and Basic Records (AUG 2018)

* * * * *

57. Amend section 52.222-30 by revising the date of the clause and removing from paragraph (a) “Employment Standards Administration,”.

The revision reads as follows:

52.222-30 Construction Wage Rate Requirements—Price Adjustment (None or Separately Specified Method).

* * * * *

Construction Wage Rate Requirements—Price Adjustment (None or Separately Specified Method) (AUG 2018)

* * * * *

58. Amend section 52.222-31 by revising the date of the clause and removing from paragraph (a) “Employment Standards Administration,”.

The revision reads as follows:

52.222-31 Construction Wage Rate Requirements—Price Adjustment (Percentage Method).

* * * * *

Construction Wage Rate Requirements—Price Adjustment (Percentage Method) (AUG 2018)

* * * * *

59. Amend section 52.222-32 by revising the date of the clause and removing from paragraph (a) “Employment Standards Administration,”.

The revision reads as follows:

52.222-32 Construction Wage Rate Requirements—Price Adjustment (Actual Method).

* * * * *

Construction Wage Rate Requirements—Price Adjustment (Actual Method) (AUG 2018)

* * * * *

60. Amend section 52.222-41 by—

a. Revising the date of the clause;

b. Removing from paragraph (c)(2)(ii) “Employment Standards Administration”; and

c. Removing from paragraph (i)(1) “Employment Standards Administration,”.

The revision reads as follows:

52.222-41 Service Contract Labor Standards.

* * * * *

Service Contract Labor Standards (AUG 2018)

* * * * *

61. Amend section 52.222-43 by revising the date of the clause and removing from paragraph (c) “Employment Standards Administration,”.

The revision reads as follows:

52.222-43 Fair Labor Standards Act and Service Contract Labor Standards—Price Adjustment (Multiple Year and Option Contracts).

* * * * *

Fair Labor Standards Act and Service Contract Labor Standards—Price Adjustment (Multiple Year and Option Contracts) (AUG 2018)

* * * * *

62. Amend section 52.223-17 by revising the date of the clause and removing from paragraph (b) “http://www.epa.gov/cpg/” and “http://www.epa.gov/cpg/products.htm” and adding “https://www.epa.gov/smm/comprehensive-procurement-guideline-cpg-program” in their places.

The revision reads as follows:

52.223-17 Affirmative Procurement of EPA-designated Items in Service and Construction Contracts.

* * * * *

Affirmative Procurement of EPA-designated Items in Service and Construction Contracts (AUG 2018)

* * * * *

63. Amend section 52.225-5 by revising the date of the clause and removing from paragraph (a), in the definition of “Caribbean Basin country end product” paragraph (1)(ii)(B) introductory text “http://www.usitc.gov/tata/hts/” and adding “https://usitc.gov/tata/hts/index.htm” in its place.

The revision reads as follows:

52.225-5 Trade Agreements.

* * * * *

Trade Agreements (AUG 2018)

* * * * *

64. Amend section 52.225-18 by revising the date of the provision and removing from the introductory text of paragraph (a) “clause” and adding “provision” in its place.

The revision reads as follows:

52.225-18 Place of Manufacture.

* * * * *

Place of Manufacture (AUG 2018)

* * * * *

65. Amend section 52.225-25 by revising the date of the provision and removing from paragraph (c)(3) “http://www.treasury.gov/ofac/downloads/t11sdn.pdf” and adding “https://www.treasury.gov/resource-center/sanctions/SDN-List/Pages/default.aspx” in its place.

The revision reads as follows:

52.225-25 Prohibition on Contracting with Entities Engaging in Certain Activities or Transactions Relating to Iran—Representation and Certifications.

* * * * *

Prohibition on Contracting with Entities Engaging in Certain Activities or Transactions Relating to Iran—Representation and Certifications (AUG 2018)

* * * * *

66. Amend section 52.228-11 by revising the date of the clause and removing from paragraph (b)(2)(i) “http://www.justice.gov/enrd/ENRD_Assets/Title_Standards_2001.pdf” and adding “https://www.justice.gov/enrd/page/file/922431/download” in its place.

The revision reads as follows:

52.228-11 Pledges of Assets.

* * * * *

Pledges of Assets (AUG 2018)

* * * * *

67. Amend section 52.243-1 by revising the introductory text and the date of the clause to read as follows:

52.243-1 Changes—Fixed-Price.

As prescribed in 43.205(a)(1), insert the following clause. The 30-day period may be varied according to agency procedures.

Changes—Fixed-Price (AUG 1987)

* * * * *

68. Amend section 52.244-6 by revising the date of the clause and paragraphs (c)(1)(iv), (v), (vi), (xv), and (xvi) to read as follows:

52.244-6 Subcontracts for Commercial Items.

* * * * *

Subcontracts for Commercial Items (AUG 2018)

* * * * *

(c) * * *

(1) * * *

(iv) 52.204-21, Basic Safeguarding of Covered Contractor Information Systems (JUN 2016), other than subcontracts for commercially available off-the-shelf items, if flow down is required in accordance with paragraph (c) of FAR clause 52.204-21.

(v) 52.204-23, Prohibition on Contracting for Hardware, Software, and Services Developed or Provided by Kaspersky Lab and Other Covered Entities (JUL 2018) (Section 1634 of Pub. L. 115-91).

(vi) 52.219-8, Utilization of Small Business Concerns (Nov 2016) (15 U.S.C. 637(d)(2) and (3)), if the subcontract offers further subcontracting opportunities. If the subcontract (except subcontracts to small business concerns) exceeds $700,000 ($1.5 million for construction of any public facility), the subcontractor must include 52.219-8 in lower tier subcontracts that offer subcontracting opportunities.

* * * * *

(xv) 52.222-62, Paid Sick Leave Under Executive Order 13706 (JAN 2017) (E.O. 13706), if flow down is required in accordance with paragraph (m) of FAR clause 52.222-62.

(xvi)(A) 52.224-3, Privacy Training (JAN 2017) (5 U.S.C. 552a) if flow down is required in accordance with 52.224-3(f).

(B) Alternate I (JAN 2017) of 52.224-3, if flow down is required in accordance with 52.224-3(f) and the agency specifies that only its agency-provided training is acceptable).

* * * * *

PART 53—FORMS

53.000 [Amended]

69. Amend section 53.000 by—

a. Removing “in acquisition,” and adding “in acquisition; and” in its place;

b. Removing “the forms, and” and adding “the forms.” in its place; and

c. Removing “(c) illustrates the forms.”.

70. Revise section 53.102 to read as follows:

53.102 Current editions.

The form prescriptions in subpart 53.2 and the FAR forms located at https://www.gsa.gov/forms contain current edition dates. Contracting officers shall use the current editions unless otherwise authorized under this regulation.

71. Revise section 53.209-1 to read as follows:

53.209-1 Responsible prospective contractors.

The following forms are prescribed for use in conducting preaward surveys of prospective contractors, as specified in 9.106-1, 9.106-2, and 9.106-4. These forms are authorized for local reproduction and can be found at the GSA Forms Library at https://www.gsa.gov/forms.

(a) SF 1403 (Rev. 01/2014), Preaward Survey of Prospective Contractor (General).

(b) SF 1404 (Rev. 01/2014), Preaward Survey of Prospective Contractor—Technical.

(c) SF 1405 (Rev. 01/2014), Preaward Survey of Prospective Contractor—Production.

(d) SF 1406 (Rev. 01/2014), Preaward Survey of Prospective Contractor—Quality Assurance.

(e) SF 1407 (Rev. 01/2014), Preaward Survey of Prospective Contractor—Financial Capability.

(f) SF 1408 (Rev. 01/2014), Preaward Survey of Prospective Contractor—Accounting System.

72. Revise section 53.228 to read as follows:

53.228 Bonds and insurance.

The following standard forms are prescribed for use for bond and insurance requirements, as specified in part 28. These forms can be found at the GSA Forms Library at https://www.gsa.gov/forms. All the following forms are authorized for local reproduction, except for SF 25B.

(a) SF 24 (Rev. 8/2016) Bid Bond. (See 28.106-1.)

(b) SF 25 (Rev. 8/2016) Performance Bond. (See 28.106-1(b).)

(c) SF 25A (Rev. 8/2016) Payment Bond. (See 28.106-1(c).)

(d) SF 25B (For Standard Forms 24, 25, and 25A) (Rev. 10/1983) Continuation Sheet for Standard Forms 24, 25 and 25A. (See 28.106-1(c).)

(e) SF 28 (Rev. 6/2003) Affidavit of Individual Surety. (See 28.106-1(e) and 28.203(b).)

(f) SF 34 (Rev 8/2016) Annual Bid Bond. (See 28.106-1(f).)

(g) SF 35 (Rev. 8/2016) Annual Performance Bond. (See 28.106-1.)

(h) SF 273 (Rev. 4/2013) Reinsurance Agreement for a Bonds statute Performance Bond. (See 28.106-1(h) and 28.202-1(a)(4).)

(i) SF 274 (Rev. 4/2013) Reinsurance Agreement for a Bonds statute Payment Bond. (See 28.106-1(i) and 28.202-1(a)(4).)

(j) SF 275 (Rev. 10/1998) Reinsurance Agreement in Favor of the United States. (See 28.106-1(j) and 28.202-1(a)(4).)

(k) SF 1414 (Rev. 05/1997), Consent of Surety.

(l) SF 1415 (Rev. 7/1993), Consent of Surety and Increase of Penalty. (See 28.108-1(l).)

(m) SF 1416 (Rev. 10/1998) Payment Bond for Other than Construction Contracts. (See 28.106-1(m).)

(n) SF 1418 (Rev. 2/1999) Performance Bond For Other Than Construction Contracts. (See 28.106-1(n).)

(o) OF 90 (Rev. 1/1990), Release of Lien on Real Property. (See 28.106-1(o) and 28.203-5(a).)

(p) OF 91 (Rev. 1/1990), Release of Personal Property from Escrow. (See 28.106-1(p) and 28.203-5(a).)

73. Revise section 53.249 to read as follows:

53.249 Termination of contracts.

(a) The following forms are prescribed for use in connection with the termination of contracts, as specified in subpart 49.6. These forms are available at the GSA Forms Library at https://www.gsa.gov/forms. These forms are authorized for local reproduction except for SF 1034.

(1) SF 1034 (GAO), Public Voucher for Purchases and Services Other Than Personal. (See 49.302(a).)

(2) SF 1435 (Rev. 03/2016), Settlement Proposal (Inventory Basis). (See 49.602-1(a).)

(3) SF 1436 (Rev. 5/2004), Settlement Proposal (Total Cost Basis). (See 49.602-1(b).)

(4) SF 1437 (Rev. 9/1997), Settlement Proposal for Cost-Reimbursement Type Contracts. (See 49.602-1(c) and 49.302.)

(5) SF 1438 (Rev. 5/2004), Settlement Proposal (Short Form). (See 49.602-1(d).)

(6) SF 1439 (Rev. 7/1989), Schedule of Accounting Information. (See 49.602-3.)

(7) SF 1440 (Rev. 01/1995), Application for Partial Payment. (See 49.602-4.)

(b) SF 1428 (Rev. 6/2007), Inventory Disposal Schedule, and Standard Form 1429 (Rev. 1/2016), Inventory Disposal Schedule—Continuation Sheet, shall be used to support termination settlement proposals listed in paragraph (a) of this section, as specified in 49.602-2. These forms are available at the GSA Forms Library at https://www.gsa.gov/forms.

74. Revise subpart 53.3 to read as follows:

Subpart 53.3—Forms Used in Acquisitions

53.300 Listing of Standard, Optional, and Agency forms.

This subpart identifies, in numerical sequence, Standard Forms (SF), Optional Forms (OF) and agency forms that are specified by the FAR for use in acquisitions.

(a) You can access the forms in Table 53-1 at the GSA Forms Library at https://www.gsa.gov/forms.

Table 53-1—Forms in the GSA Forms Library
Form No. | Form title
SF 18 | Request for Quotation.
SF 24 | Bid Bond.
SF 25 | Performance Bond.
SF 25A | Payment Bond.
SF 25B | Continuation Sheet for 24, 25, and 25A.
SF 26 | Award/Contract.
SF 28 | Affidavit of Individual Surety.
SF 30 | Amendment of Solicitation/Modification of Contract.
SF 33 | Solicitation, Offer and Award.
SF 34 | Annual Bid Bond.
SF 35 | Annual Performance Bond.
SF 44 | U.S. Government Purchase Order—Invoice—Voucher.
SF 120 | Report of Excess Personal Property.
SF 120A | Continuation Sheet (Report of Excess Personal Property).
SF 126 | Report of Personal Property for Sale.
SF 126A | Report of Personal Property for Sale (Continuation Sheet).
SF 252 | Architect-Engineer Contract.
SF 273 | Reinsurance Agreement for a Bonds Statute Performance Bid.
SF 274 | Reinsurance Agreement for a Bonds Statute Payment Bond.
SF 275 | Reinsurance Agreement in Favor of the United States.
SF 294 | Subcontracting Report for Individual Contracts.
SF 298 | Report Documentation Page.
SF 308 | Request For Wage Determination and Response to Request.
SF 330 | Architect-Engineer Qualifications.
SF 1034 | Public Voucher for Purchases and Services Other Than Personal.
SF 1035 | Public Voucher for Purchases and Services Other Than Personal (Continuation Sheet).
SF 1094 | United States Tax Exemption Form.
SF 1094A | Tax Exemption Accountability Record.
SF 1165 | Receipt for Cash-Subvoucher.
SF 1402 | Certificate of Appointment.
SF 1403 | Preaward Survey of Prospective Contractor (General).
SF 1404 | Preaward Survey of Prospective Contractor (Technical).
SF 1405 | Preaward Survey of Prospective Contractor (Production).
SF 1406 | Preaward Survey of Prospective Contractor (Quality Assurance).
SF 1407 | Preaward Survey of Prospective Contractor Financial Capability.
SF 1408 | Preaward Survey of Prospective Contractor Accounting System.
SF 1409 | Abstract of Offers.
SF 1410 | Abstract of Offers -Continuation.
SF 1413 | Statement and Acknowledgment.
SF 1414 | Consent of Surety.
SF 1415 | Consent of Surety and Increase of Penalty.
SF 1416 | Payment Bond For Other Than Construction Contracts.
SF 1418 | Performance Bond for Other Than Construction Contracts.
SF 1423 | Inventory Verification Survey.
SF 1424 | Inventory Disposal Report.
SF 1428 | Inventory Disposal Schedule.
SF 1429 | Inventory Disposal Schedule-Continuation Sheet.
SF 1435 | Settlement Proposal (Inventory Basis).
SF 1436 | Settlement Proposal (Total Cost Basis).
SF 1437 | Settlement Proposal for Cost-Reimbursement Type Contracts.
SF 1438 | Settlement Proposal (Short Form).
SF 1439 | Schedule of Accounting Information.
SF 1440 | Application For Partial Payment.
SF 1442 | Solicitation, Offer, and Award (Construction, Alteration, or Repair).
SF 1443 | Contractor's Request For Progress Payment.
SF 1444 | Request For Authorization of Additional Classification and Rate.
SF 1445 | Labor Standards Interview.
SF 1446 | Labor Standards Investigation Summary Sheet.
SF 1447 | Solicitation/Contract.
SF 1449 | Solicitation/Contract/Order for Commercial Items.
OF 17 | Offer Label.
OF 90 | Release of Lien on Real Property.
OF 91 | Release of Personal Property From Escrow.
OF 307 | Contract Award.
OF 308 | Solicitation and Offer-Negotiated Acquisition.
OF 309 | Amendment of Solicitation (Negotiated Procurements).
OF 336 | Continuation Sheet.
OF 347 | Order for Supplies or Services.
OF 348 | Order For Supplies or Services—Schedule—Continuation.
OF 1419 | Abstract of Offers—Construction.
OF 1419A | Abstract of Offers-Construction Continuation Sheet.

(b) You can access the forms in Table 53-2 at the websites listed in the table.

Table 53-2—Other Forms
Form DD 254 | Department of Defense Contract Security Classification Specification | http://www.dtic.mil/whs/directives/forms/eforms/dd0254.pdf.
Form DD 441 | Department of Defense Security Agreement | http://www.dtic.mil/whs/directives/forms/eforms/dd0441_2017.pdf.
Form WH-347 | Payroll-U.S. Department of Labor | https://www.dol.gov/whd/forms/wh347.pdf.

[FR Doc. 2018-17836 Filed 8-21-18; 8:45 am]

BILLING CODE 6820-EP-P